DELAWARE RIVER BASIN COMMISSION

Notice of Commission Meeting and Public Hearing

Notice is hereby given that the Delaware River Basin Commission will hold an informal conference followed by a public hearing on Wednesday, March 3, 2010. The hearing will be part of the Commission's regular business meeting. The conference session and business meeting both are open to the public and will be held at the Commission's office building, located at 25 State Police Drive, West Trenton, New Jersey.

The conference among the commissioners and staff will begin at 10:30 a.m. and will consist of (a) a presentation by representatives of the Schuylkill Action Network and the U.S. Environmental Protection Agency on the U.S. EPA Targeted Watershed Initiative Grant Final Report; and (b) a presentation by the DRBC Commissioner from Pennsylvania on Pennsylvania's Total Dissolved Solids (TDS) Strategy.

The subjects of the public hearing to be held during the 1:30 p.m. business meeting include the dockets listed below:

1. Gulph Mills Country Club, D-1966-217-2. An application for the renewal of a ground and surface water withdrawal project to continue withdrawal of 11.886 million gallons per thirty days (mg/30 days) to supply the applicant's golf course irrigation from two pond intakes and existing Well No. 1, completed in the Conestoga Formation. The project is located in the Matsunk Creek Watershed in Upper Merion Township, Montgomery County, Pennsylvania, within the Southeastern Pennsylvania Ground Water Protected Area.

2. Cabot Corporation, D-1970-072-4. An application for renewal of an existing 0.222 million gallons per day (mgd) discharge from Outfalls Nos. 001 [(process wastewater and non-contact cooling water (NCCW)], 002 (stormwater, condensate, and NCCW), and 003 (process water treatment system wastewater). The project is located on Swamp Creek at River Mile 92.47—32.3—12.9—12.6 (Delaware River—Schuylkill River—Perkiomen Creek—Swamp Creek), on the border of Douglass Township, Montgomery County, Pennsylvania and Colebrookdale Township, Berks County, Pennsylvania.

3. Palmerton Borough, D-1981-024 CP-8. An application for the renewal of a groundwater withdrawal project to continue to withdraw a maximum of 25 mg/30 days to supply the applicant's public water supply system from existing Wells Nos. 4, 6, 7, A and the Foundry Well, all completed in the Bloomsburg Formation Aquifer. The applicant also requests that an existing surface water withdrawal approved by Docket No. D-90-17 be included in the renewal of Docket No. D-81-24 CP-8. The existing surface water withdrawal allocation provides for a maximum of 71 mg/30 days to supply the applicant's industrial water supply demand. The surface water withdrawal is made through two intakes located on the Aquashicola and Pohopoco Creeks, respectively. Wells Nos. 4, 6, 7 and A are located in the Aquashicola Watershed. The Foundry Well alone is located in the Lehigh River Watershed. The wells and intakes are located in Palmerton Borough, Carbon County, Pennsylvania. The site is located within the drainage area of the section of the non-tidal Delaware River known as the Lower Delaware, which is classified as Special Protection Waters.

4. Antietam Valley Municipal Authority, D-1987-045 CP-3. An application for approval of the renewal of the Antietam Valley Wastewater Treatment Plant (WWTP). The WWTP will continue to discharge an average annual flow of 1.225 mgd of treated sewage effluent to Antietam Creek, a tributary to the Schuylkill River. The WWTP has a hydraulic design capacity of 2.45 mgd (maximum monthly flow). The facility is located in St. Lawrence Borough, Berks County, Pennsylvania.

5. Joint Municipal Authority of Wyomissing Valley, D-1991-009 CP-3. An application for renewal of the Joint Municipal Authority of Wyomissing Valley WWTP. The existing WWTP will continue to discharge 4.0 mgd of treated effluent to the Wyomissing Creek, a tributary of the Schuylkill River. The facility is located in the City of Reading, Berks County, Pennsylvania.

6. Aqua Pennsylvania—Honesdale System, D-1995-057 CP-2. An application for renewal of a groundwater withdrawal project with an expired DRBC docket, to continue a withdrawal of 46.20 mg/30 days of groundwater to supply the applicant's public water supply system from existing Wells Nos. Horseshoe 1 and 2, Weidner 3, Goyette 4, Perano 5, and Quarry 6, all completed in the Catskill Geologic Formation. Ownership of the project was recently transferred. The project is located in the West Branch Lackawaxen River Watershed in the Borough of Honesdale and Texas Township, Wayne County, Pennsylvania. The site is located within the drainage area of the section of the non-tidal Delaware River known as the Upper Delaware, which is classified as Special Protection Waters.

7. Borough of Strausstown, D-2005-006 CP-2. A renewal application for approval to continue discharging 0.065 mgd of treated effluent from the Borough of Strausstown WWTP. The WWTP is located at River Mile 92.47—76.8—15.4—0.8—6.5—0.4 (Delaware River—Schuylkill River—Tulpehocken Creek—Northkill Creek—Little Northkill Creek—Jackson Creek) in Pocono Township, Monroe County, Pennsylvania.

8. NuStar Asphalt Refining, LLC, D-2009-037-1. An application for approval of an existing 5.48 mgd discharge of untreated industrial wastewater and stormwater through discharge Outfalls Nos. DSN002A, DSN003A, DSN004A, DSN005A, DSN006A, and DSN007A. Stormwater is commingled with condensate from steam heating, sand filter backflush water, and/or tank drain discharges. The asphalt refinery is located in Paulsboro Borough, Gloucester County, New Jersey and the six outfalls are located in Water Quality Zone 4 at or near River Mile 89.66 (Delaware River).

9. Borough of Brookhaven, D-1966-096 CP-3. An application for approval of the upgrade of the existing Brookhaven Borough WWTP. The existing trickling filter treatment system is proposed to be replaced with an extended aeration system incorporating the Modified Ludzak-Ettinger (MLE) process. Notice of the project was previously published in the Commission's January 12, 2010 Notice of Applications Received (NAR), as No. D-1998-032 CP-2. This second notice is being provided because of the change in DRBC's assigned docket/application number. The project WWTP will continue to treat an average annual flow of 0.192 mgd and discharge to Chester Creek. The facility is located in the Borough of Brookhaven, Delaware County, Pennsylvania.

10. Lynn Township, D-1977-041 CP-2. An application for approval of an expansion of the existing Lynn Township WWTP. The 0.08 mgd WWTP will be expanded to treat an average annual daily flow rate of 0.16 mgd. The WWTP will continue to discharge to Ontelaunee Creek, which is a tributary of the Schuylkill River. The facility is located in Lynn Township, Lehigh County, Pennsylvania.

11. Borough of Ambler, D-1985-026 CP-5. An application for approval of a groundwater withdrawal project to continue a withdrawal of up to 90 mg/30 days to supply the applicant's Public Water Supply system from 10 existing wells and one spring (Whitemarsh Spring). The Whitemarsh Spring withdrawal is not included in the current version of the docket, approved in September 2008. The project wells are drilled in the Lower Member of the Stockton Formation and Whitemarsh Spring is located in the Ledger Dolomite. The spring outlet and the project wells are located in the Wissahickon Creek Watershed in Lower Gwynedd and Upper Dublin Townships, Montgomery County, Pennsylvania within the Southeastern Pennsylvania Ground Water Protected Area.

12. East Vincent Township Municipal Authority, D-1993-032 CP-2. An application for approval to renew a discharge of up to 2.0 mgd from the existing Veterans Center WWTP. The WWTP will continue to discharge an average of 0.5 mgd of treated domestic waste to the Schuylkill River via Outfall No. 001 at River Mile 92.47—43.5 (Delaware River—Schuylkill River). In addition, modifications to the existing WWTP are proposed, to include a new screen facility, a new filter building, repairs to existing treatment tanks, and other miscellaneous improvements. The Veterans Center is located in East Vincent Township, Chester County, Pennsylvania.

13. Valley Forge Sewer Authority, D-1995-006 CP-2. An application for approval of the modification of the Valley Forge Sewer Authority WWTP. The docket holder proposes to replace the current disinfection system (chlorine contact tank) with an ultraviolet light (UV) disinfection system. The modification also includes the re-rate of the WWTP from 8.99 mgd to 9.2 mgd. Although the plant re-rate was completed in 1999, it occurred without the Commission's review. The WWTP will continue to discharge to the Schuylkill River. The facility is located in Schuylkill Township, Chester County, Pennsylvania.

14. Lehigh County Authority, D-2001-020 CP-5. An application for approval of an interconnection between Lehigh County Authority's (LCA) Central Lehigh Division (CLD) service area and Allentown's Schantz Spring source. Included in LCA's application was a request for emergency approval of a temporary interconnection and the immediate ability for LCA to use up to 1.0 mgd. Two subsequent phases of construction to permanently interconnect LCA's and Allentown's systems—an “Interim” Phase for 2 mgd and a “Long-Term” Phase for an average of 7 mgd—make up the remainder of the applicant's request. The LCA's groundwater withdrawal project will continue to supply up to 256.24 mg/30 days of water to the applicant's public water supply system. No increase in the existing groundwater allocation is requested. The project is located in the Beekmantown Formation in the Cedar Creek Watershed in Upper Macungie Township, Lehigh County, Pennsylvania, within the drainage area to the section of the non-tidal Delaware River known as the Lower Delaware, which is classified as Special Protection Waters.

15. Muhlenburg Township Authority, D-2001-030 CP-2. An application for approval of a ground water withdrawal project to supply a peak monthly withdrawal of up to 153.09 mg/30 days and a total yearly withdrawal of 730 mg of water to the applicant's public water supply system from new Wells Nos. PH-1 and PH-2 and to increase the existing withdrawal of all wells from 168.50 mg/30 days to 228.50 mg/30 days. The increased allocation is requested in order to meet projected increases in service area demand. The project wells are completed in the Allentown Formation in the Laurel Run Watershed in Muhlenburg Township, Berks County, Pennsylvania. The site is located within the drainage area of the Schuylkill River.

16. Village of Delhi, D-2001-033 CP-2. An application for approval of a re-rate of an existing 0.815 mgd WWTP to 1.015 mgd. The project WWTP is located at River Mile 330.70—57.4 (Delaware River—West Branch Delaware River), approximately 22 miles upstream of the Cannonsville Reservoir, within the drainage area of the section of the non-tidal Delaware River known as the Upper Delaware, which is classified as Special Protection Waters. The facility is located in the Town of Delhi, Delaware County, New York.

17. Nazareth Borough Municipal Authority, D-2002-038 CP-2. An application for the approval of the modification of the existing Nazareth Borough Municipal Authority WWTP. The existing 1.6 mgd WWTP includes two (2) Intermittent Cycle Extended Aeration System (ICEAS) basins. The applicant proposes to modify the WWTP by adding two (2) new additional ICEAS basins. The WWTP will continue to discharge to Shoeneck Creek. Shoeneck Creek is a tributary to the Bushkill Creek, and the project WWTP is located within the drainage area to the section of the non-tidal Delaware River known as the Lower Delaware, which is classified as Special Protection Waters. The facility is located in Lower Nazareth Township, Northampton County, Pennsylvania.

18. Tidewater Utilities, Inc., D-2005-027 CP-2. An application for the renewal of an existing groundwater withdrawal project and to increase the current withdrawal from 3.51 mg/30 days to 4.967 mg/30 days to supply the applicant's public water supply system from existing Wells Nos. VWQ-1, VWQ-2, WQ-2, and WQ-4, completed in the Piney Point and Frederica aquifers. Wells Nos. WQ-2 and WQ-4 were included in previously approved Docket No. D-2005-027 CP-1. Wells Nos. VWQ-01 and VWQ-02 are existing wells that were not included in Docket No. D-2005-027 CP-1. The increased allocation is requested in order to meet projected increases in service area demand. The project is located in the Isaac Branch Watershed of the Saint Jones River in the City of Dover, West Township, Kent County, Delaware.

19. Ingersoll-Rand Company, D-2006-014-2. An application for renewal of a 0.09 mgd discharge from the applicant's existing groundwater remediation plant and a related outfall reconfiguration. The WWTP will discharge to Lopatcong Creek, an FW2-NT(C2) stream, which is a tributary of the Delaware River at River Mile 182.0-1.87 (Delaware River—Lopatcong Creek). The WWTP is located in the Town of Phillipsburg, Warren County, New Jersey, within the drainage area of the section of the non-tidal Delaware River known as the Lower Delaware, which is classified as Special Protection Waters.

20. Beaver Lake Estates, D-2009-038 CP-1. An application for approval of the expansion of the Beaver Lake Estates Wastewater Treatment Plant (WWTP) from 0.035 mgd to 0.14 mgd. Outfall No. 001 will continue to discharge to an unnamed tributary of Barnum Brook, a tributary of the Neversink River at River Mile 253.64-25.15-2.0-1.12 (Delaware River—Neversink River—Barnum Brook—Unnamed Tributary) in the drainage area of the section of the non-tidal Delaware River known as the Middle Delaware, which is designated as Special Protection Waters. The Beaver Lake Estates WWTP is located in the Town of Thompson, Sullivan County, New York.

21. Bucks County Water and Sewer Authority, D-1999-013 CP-2. An application for the approval of the expansion of the existing Bucks County Water and Sewer Authority (BCWSA) Harvey Avenue WWTP. The existing 0.9 mgd WWTP currently utilizes an extended aeration activated sludge process in the form of a Carousel Oxidation Ditch. The existing WWTP treatment train will remain and a second 0.7 mgd treatment train will be constructed, consisting of a Vertical Loop Reactor, clarifiers, and aerobic digester. The proposed addition will increase the hydraulic design capacity of the WWTP to 1.6 mgd. The WWTP will continue to discharge to Cook's Run, a tributary to the Neshaminy Creek. The facility is located in the Borough of Doylestown, Bucks County, Pennsylvania.

22. Maxatawny Township Municipal Authority, D-2007-001 CP-1. An application for approval to construct a new Maxatawny Township Municipal Authority WWTP with a discharge of 0.14 mgd. The WWTP will discharge to the Saucony Creek, which is a tributary to the Maiden Creek. The facility will be located in Maxatawny Township, Berks County, Pennsylvania.

23. Wyeth Pharmaceuticals, D-2009-015-1. An application for approval of an existing 0.068 mgd discharge of contact cooling water (CCW). CCW will continue to be discharged from the applicant's pharmaceutical facility via Outfalls Nos. 001 and 002. The project outfalls are located at River Mile 92.47-32.36-4.68 (Delaware River—Schuylkill River—Perkiomen Creek). At this location, the Perkiomen Creek is classified by PADEP as a warm water/migrating fishery (WWF/MF). The facility is located in Upper Providence Township, Montgomery County, Pennsylvania.

24. Geerling's Florist, Inc., D-2009-031-1. An application for approval of a groundwater withdrawal project to continue to supply up to 4.4 mg/30 days of irrigation water to the applicant's greenhouse and nursery operations from existing Wells Nos. 1, 2, 3, 4, 5, and 6. The project is located in the Brunswick Formation in the Mill Creek and Pidcock Creek Watersheds in Buckingham Township, Bucks County, Pennsylvania within the Southeastern Pennsylvania Ground Water Protected Area.

25. Chester Valley Golf Club, D-2009-035-1. An application for approval of a groundwater and surface water withdrawal project to supply up to 5.6 mg/30 days of water from existing sources, including a storage pond, Well No. 11904, and one gravity-fed surface water intake to irrigate the applicant's golf course. The project is located in East Whiteland Township, Chester County, Pennsylvania in the Southeastern Pennsylvania Ground Water Protected Area. The surface water will be withdrawn from an unnamed tributary of Valley Creek. The well is located in the Elbrook Formation within the Valley Creek Sub-basin.

26. Deb-El Food Products, D-2009-036-1. An application for approval to construct a 0.05 mgd industrial waste treatment plant (IWTP) that will discharge to the Neversink River at River Mile 253.64—28.7 (Delaware River—Neversink River) in the drainage area of the section of the Non-Tidal Delaware River known as the Middle Delaware, which is designated as Special Protection Waters. The IWTP is located in the Town of Thompson, Sullivan County, New York.

27. Tuscan/Lehigh Dairies, Inc., D-2009-043-1. A new groundwater withdrawal project to supply up to 8.7 mg/30 days of water to the applicant's industrial cooling and process system from existing Wells Nos. 3, 4, and 5. The project wells are located in the Brunswick Group in the Towamencin Creek Watershed in Upper Gwynedd Township, Montgomery County, Pennsylvania, within the Southeastern Pennsylvania Ground Water Protected Area.

28. Bucks County Water and Sewer Authority, D-2009-047 CP-1. An application to construct a 2 million gallon underground storage tank in the Bensalem Collection System, which is a tributary to the Poquessing Interceptor. The storage tank is proposed to help alleviate wet weather overflows from the Poquessing Interceptor near Holy Family University in the City of Philadelphia during heavy rain events. The Poquessing Interceptor is interconnected with the Delaware Interceptor, which is the pipeline that conveys untreated sanitary waste and stormwater to the Philadelphia Water Department's Northeast Wastewater Treatment Plant. The Bensalem Collection System will continue to transfer untreated sanitary waste and stormwater from Bensalem Township, Bucks County, Pennsylvania to the Poquessing Interceptor, which is interconnected with the Delaware Interceptor in the City of Philadelphia, Pennsylvania.

29. Sullivan Farms, IV, LLC (Kaufman Farms), D-2009-048 CP-1. An application to approve the construction of the new 17,282 gpd Kaufman Farms WWTP. The WWTP will land discharge to four on-site infiltration beds. The project is located near River Mile 253.64—9.5—11.5 (Delaware River—Neversink River—Basher Kill) in the drainage area of the section of the non-tidal Delaware River known as the Middle Delaware, which is classified as Special Protection Waters. The project is located in the Village of Wurtsboro, Sullivan County, New York.

In addition to the standard business meeting items, including adoption of the Minutes of the Commission's previous (December 9, 2009) business meeting; announcements of upcoming advisory committee meetings and events of interest; a report on hydrologic conditions; a report by the Executive Director; and a report by the Commission's General Counsel, the business meeting will include public hearings and consideration by the Commission of resolutions: (a) Approving the Commission's FY 2010-2015 Water Resources Program; (b) authorizing the Executive Director to select a new auditor for the Commission; and (c) in connection with repair of the HVAC System, authorizing the Executive Director to contract for a study of options for expanding capacity of the Goddard Room. In addition the Commissioners will consider adoption of the DRBC fiscal year 2011 operating and capital budgets, on which a hearing was conducted during the December 9, 2009 business meeting. An opportunity for public dialogue will be provided at the end of the meeting.

Draft dockets scheduled for public hearing on March 3, 2010 can be accessed through the Notice of Commission Meeting and Public Hearing on the Commission's Web site, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's Web site, drbc.net, closer to the meeting date for changes that may be made after the deadline for filing this notice.

Individuals in need of an accommodation as provided for in the Americans with Disabilities Act who wish to attend the informational meeting, conference session or hearings should contact the commission secretary directly at 609-883-9500 ext. 203 or through the Telecommunications Relay Services (TRS) at 711, to discuss how the Commission can accommodate your needs.

February 8, 2010.
Pamela M. Bush, Esquire,
Commission Secretary.

[FR Doc. 2010-3216 Filed 2-18-10; 8:45 am]

BILLING CODE 6360-01-P